DEPARTMENT OF THE INTERIOR

Fish and Wildlife Service

[FWS-R8-NWRS-2020-N067]; [FXRS12610800000-190-FF08R00000]

Butte Sink, Willow Creek—Lurline, and North Central Valley Wildlife Management Areas, CA; Final Comprehensive Conservation Plan/Environmental Assessment and Finding of No Significant Impact

AGENCY: Fish and Wildlife Service, Interior.

ACTION: Notice of availability.

SUMMARY: We, the U.S. Fish and Wildlife Service (Service), announce the availability of a final comprehensive conservation Plan (CCP), environmental assessment (EA), and finding of no significant impact (FONSI) for the Butte Sink, Willow Creek-Lurline, and North Central Valley Wildlife Management Areas (WMAs) in California. The CCP/EA/FONSI, prepared under the National Wildlife Refuge System Improvement Act of 1997, and in accordance with the National Environmental Policy Act, describes how the Service will manage the three WMAs for the next 15 years. Compatibility determinations for six public uses are also included in the final CCP.

ADDRESSES: You will find the final CCP and the EA/FONSI on the WMAs website at https://go.usa.gov/xPm3r.

FOR FURTHER INFORMATION CONTACT: The Planning Team Leader, by email at fw8plancomments@fws.gov. Include “WMAs Final CCP/EA” in the subject line of the message.

SUPPLEMENTARY INFORMATION: We announce the availability of a final comprehensive conservation plan/environmental assessment and finding of no significant impact (CCP/EA/FONSI) for Butte Sink, Willow Creek-Lurline, and North Central Valley Wildlife Management Areas, which are located in Tehama, Butte, Glenn, Colusa, Yuba, Sacramento, Sutter, Placer, Yolo, Solano, Contra Costa, and San Joaquin Counties, California. The CCP/EA/FONSI, prepared under the National Wildlife Refuge System Improvement Act of 1997, and in accordance with the National Environmental Policy Act of 1969, describes how the Service will manage the three WMAs for the next 15 years. Compatibility determinations for public uses are also included in the final CCP.

Introduction

With this notice, we complete the CCP process for Butte Sink, Willow Creek—Lurline, and North Central Valley Wildlife Management Areas, which we began by publishing a notice of intent in the Federal Register on November 30, 2009 (74 FR 62584). For more about the initial process and the history of the Wildlife Management Area, see that notice. We released the draft CCP and EA to the public, announcing and requesting comments in a notice of availability on June 15, 2015 (80 FR 34166). The 85-day comment period ended on September 9, 2015. A summary of public comments and our responses are included in the final CCP.

Background

The National Wildlife Refuge System Improvement Act of 1997 (16 U.S.C. 668dd-668ee), which amended the National Wildlife Refuge System Administration Act of 1966, requires the Service to develop a CCP for each National Wildlife Refuge. The purpose of developing a CCP is to provide refuge managers with a 15-year plan for achieving refuge purposes and contributing toward the mission of the National Wildlife Refuge System (NWRS), consistent with sound principles of fish and wildlife management, conservation, legal mandates, and our policies. In addition to outlining broad management direction on conserving wildlife and their habitats, CCPs identify wildlife-dependent recreational opportunities available to the public, including opportunities for hunting, fishing, wildlife observation, and photography, environmental education, and interpretation. We will review and update the CCP at least every 15 years in accordance with the Improvement Act.

Each unit of the NWRS was established for specific purposes. We use these purposes as the foundation for developing and prioritizing the management goals and objectives for each refuge within the NWRS, and to determine how the public can use each refuge. The planning process is a way for us to evaluate management goals and objectives that will ensure the best possible approach to wildlife, plant, and habitat conservation, while providing for wildlife-dependent recreation opportunities that are compatible with each refuge's establishing purposes and the mission of the NWRS.

Additional Information

The final CCP may be found at https://go.usa.gov/xPm3r. The final CCP includes detailed information about the planning process, WMAs, issues, and management alternative selected. The website also includes an EA, prepared in accordance with the National Environmental Policy Act (NEPA) (43 U.S.C. 4321 et seq.). The EA includes discussion of three alternative management options. The Service's selected alternative is reflected in the final CCP, and also in the FONSI.

The selected alternative focuses on reducing the existing North Central Valley wetland easement acquisition objective by 19,000 acres, and adding an agricultural easement objective by the same amount. The CCP also describes limiting wetland easement acquisition to Butte, Colusa, Glenn, Placer, Sutter, Yolo, and Yuba Counties. All three alternatives included the acquisition of up to 3,321 additional acres of Service-owned lands from willing landowners in the North Central Valley WMA.

National Environmental Policy Act Compliance

We announce our decision and the availability of the FONSI for the Final CCP/EA for the Butte Sink, Willow Creek—Lurline, and North Central Valley Wildlife Management Areas, in accordance with the National Environmental Policy Act requirements (40 CFR 1506.6(b)). We completed a thorough analysis of impacts on the human environment, which we included in the draft EA that accompanied the Draft CCP. This notice is in addition to our announcement of the completion of the CCP process on the Refuge Complex website.

The final EA discusses the direct, indirect, and cumulative impacts of the alternatives on biological resources, cultural resources, water quality, and other environmental resources. Measures to minimize adverse environmental effects are identified and discussed in the final CCP/EA.

Priscilla Wheeler,
Acting Regional Director, Sacramento, California.

[FR Doc. 2020-08407 Filed 4-20-20; 8:45 am]

BILLING CODE 4333-15-P